FEDERAL COMMUNICATIONS COMMISSION

47 CFR Part 73

[DA 07-4505; MB Docket No. 07-107; RM-11330]

Radio Broadcasting Services; Bokchito and Clayton, OK

AGENCY: Federal Communications Commission.

ACTION: Proposed rule, dismissal.

SUMMARY: This document dismisses a petition for rule making filed by Charles Crawford (“Petitioner”), proposing to allot Channel 241A at Bokchito, Oklahoma and to substitute Channel 263A for vacant Channel 241A at Clayton, Oklahoma, pursuant to Petitioner's request for withdrawal. The document therefore terminates the proceeding.

ADDRESSES: Federal Communications Commission, 445 12th Street, SW., Washington, DC 20554.

FOR FURTHER INFORMATION CONTACT: Rolanda F. Smith, Media Bureau, (202) 418-2180.

SUPPLEMENTARY INFORMATION: This is a synopsis of the Commission's Report and Order, MB Docket No. 07-107, adopted October 31, 2007, and released November 2, 2007. The full text of this Commission decision is available for inspection and copying during normal business hours in the FCC Reference Information Center (Room CY-A257), 445 12th Street, SW., Washington, DC 20554. This document may also be purchased from the Commission's duplicating contractors, Best Copy and Printing, Inc., 445 12th Street, SW., Room CY-B402, Washington, DC 20554, telephone 1-800-378-3160 or http://www.BCPIWEB.com.

This document is not subject to the Congressional Review Act. (The Commission, is, therefore, not required to submit a copy of this Report and Order to Government Accountability Office, pursuant to the Congressional Review Act, see 5 U.S.C. 801(a)(1)(A) because the proposed rule is dismissed.)

Federal Communications Commission.
John A. Karousos,
Assistant Chief, Audio Division, Media Bureau.

[FR Doc. E7-23256 Filed 11-30-07; 8:45 am]

BILLING CODE 6712-01-P